DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before October 26, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-129577

Applicant: Bureau of Land Management, Arcata, California

The applicant requests a permit to remove/reduce to possession Layia carnosa (beach layia) in conjunction with ecological research in Humboldt County, California, for the purpose of enhancing its survival.

Permit No. TE-816204

Applicant: University of California, Davis, California

The permittee requests an amendment to take (capture, mark, collect tissue samples and voucher specimens, and release) the Buena Vista lake shrew (Sorex ornatus relictus), the giant kangaroo rat (Dipodomys ingens), the Fresno kangaroo rat (Dipodomys nitratoides exilis), the Tipton kangaroo rat (Dipodomys nitratoides nitratoides), and the Riparian woodrat (Neotoma fuscipes riparia) in conjunction with scientific research in San Joaquin, Merced, Stanislaus, Tulare, and Kern Counties, California, for the purpose of enhancing their survival.

Permit No. TE-046262

Applicant: Blake A. Claypool, Encinitas, California

The permittee requests an amendment to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-128256

Applicant: Steven Kramer, Arcata, California

The applicant requests a permit to take (harass by survey, capture, handle, and release) the tidewater goby (Eucyclogobius newberryi) in conjunction with surveys throughout the species range in California for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: August 23, 2006.
Michael Fris,
Acting Manager, California/Nevada Operations Office, U.S. Fish and Wildlife Service.

[FR Doc. E6-15707 Filed 9-25-06; 8:45 am]

BILLING CODE 4310-55-P